DEPARTMENT OF COMMERCE

International Trade Administration

[C-570-938]

Citric Acid and Certain Citrate Salts from the People's Republic of China: Rescission of Countervailing Duty Administrative Review; 2014

AGENCY: Enforcement and Compliance, International Trade Administration, Department of Commerce.

DATES: Effective Date: October 2, 2015.

FOR FURTHER INFORMATION CONTACT: Eizabeth Eastwood, Enforcement and Compliance, International Trade Administration, U.S. Department of Commerce, 14th Street and Constitution Avenue NW., Washington, DC 20230; telephone: (202) 482-3874.

SUPPLEMENTARY INFORMATION:

Background

On May 1, 2015, the Department published in the Federal Register a notice of “Opportunity to Request Administrative Review” of the countervailing duty order on citric acid and certain citrate salts (citric acid) from the People's Republic of China (PRC) for the period of January 1, 2014, through December 31, 2014.¹ In May and June 2015, the Department received timely requests,² in accordance with section 751(a) of the Tariff Act of 1930, as amended (the Act), and 19 CFR 351.213(b), for an administrative review of this countervailing duty order from the Archer Daniels Midland Company, Cargill, Incorporated, and Tate & Lyle Ingredients Americas LLC (collectively, “the petitioners”); Laiwu Taihe Biochemistry Co., Ltd. (Taihe); and RZBC Co., Ltd./RZBC Import & Export Co., Ltd./RZBC (Juxian) Co., Ltd. (collectively, “RZBC Group”).³ On July 1, 2015, the Department published in the Federal Register a notice of initiation with respect to Taihe and RZBC Group.⁴

¹ See Antidumping or Countervailing Duty Order, Finding, or Suspended Investigation; Opportunity to Request Administrative Review, 80 FR 24898 (May 1, 2015).

² Because the last day of the anniversary month fell on a weekend, we note that the last day parties could timely request an administrative review of orders with May anniversary dates was June 1, 2015. Therefore, the petitioners' review request dated June 1, 2015, was timely filed.

³ See letters requesting an administrative review from the Taihe, RZBC Group, and the petitioners, dated May 28, May 29, and June 1, 2015, respectively.

⁴ See Initiation of Antidumping Duty Administrative Reviews, 80 FR 37588 (July 1, 2015).

In July 2015, the petitioners, Taihe, and RZBC Group withdrew their administrative review requests.⁵

⁵ See the letter withdrawing request for an administrative review from RZBC Group, dated July 2, 2015; see also the letters withdrawing requests for an administrative review from the petitioners and Taihe, dated July 31, 2015.

Rescission of Review

Pursuant to 19 CFR 351.213(d)(1), the Department will rescind an administrative review, in whole or in part, if a party that requested a review withdraws the request within 90 days of the date of publication of notice of initiation of the requested review. The petitioners, Taihe, and RZBC Group each withdrew their requests for review by the 90-day deadline. Therefore, we are rescinding the administrative review of the countervailing duty order on citric acid from the PRC covering the period January 1, 2014, through December 31, 2014.

Assessment

The Department will instruct U.S. Customs and Border Protection (CBP) to assess countervailing duties on all appropriate entries. Countervailing duties shall be assessed at rates equal to the cash deposit of estimated countervailing duties required at the time of entry, or withdrawal from warehouse, for consumption, in accordance with 19 CFR 351.212(c)(1)(i). The Department intends to issue appropriate assessment instructions directly to CBP 15 days after the date of publication of this notice in the Federal Register.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This notice is published in accordance with section 751 of the Act and 19 CFR 351.213(d)(4).

Dated: September 25, 2015.
Christian Marsh,
Deputy Assistant Secretary for Antidumping and Countervailing Duty Operations.

[FR Doc. 2015-25166 Filed 10-1-15; 8:45 am]

BILLING CODE 3510-DS-P